INTERNATIONAL TRADE COMMISSION

[Investigation No. 731-TA-298 (Third Review)]

Porcelain-on-Steel Cooking Ware From China

Determination

On the basis of the record ¹ developed in the subject five-year review, the United States International Trade Commission (Commission) determines, pursuant to section 751(c) of the Tariff Act of 1930 (19 U.S.C. 1675(c)), that revocation of the antidumping duty order on porcelain-on-steel cooking ware from China would be likely to lead to continuation or recurrence of material injury to an industry in the United States within a reasonably foreseeable time.

¹ The record is defined in sec. 207.2(f) of the Commission's Rules of Practice and Procedure (19 CFR § 207.2(f)).

Background

The Commission instituted this review on October 1, 2010 (75 FR 62144) and determined on January 4, 2011 that it would conduct an expedited review (76 FR 2920, January 18, 2011).

The Commission transmitted its determination in this review to the Secretary of Commerce on February 28, 2011. The views of the Commission are contained in USITC Publication 4216 (February 2011), entitled Porcelain-on-Steel Cooking Ware from China: Investigation No. 731-TA-298 (Third Review).

Issued: February 28, 2011.
By order of the Commission.
William R. Bishop,
Hearings and Meetings Coordinator.

[FR Doc. 2011-5009 Filed 3-4-11; 8:45 am]

BILLING CODE P